OFFICE OF MANAGEMENT AND BUDGET

Office of Federal Procurement Policy

DEPARTMENT OF DEFENSE

GENERAL SERVICES ADMINISTRATION

NATIONAL AERONAUTICS AND SPACE ADMINISTRATION

[OMB Control No. 9000-0079; Docket No. 2025-0053; Sequence No. 4]

Submission for OMB Review; Travel Costs

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding travel costs.

DATES: Submit comments on or before June 26, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0079, Travel Costs.

B. Need and Uses

This clearance covers the information that contractors must submit to comply with the following FAR requirements:

1. FAR 31.205-46(a)(3)—In special or unusual situations, costs incurred by a contractor for lodging, meals, and incidental expenses, may exceed the per diem rates in effect as set forth in the Federal Travel Regulation (FTR) for travel in the contiguous 48 United States. The actual costs may be allowed only if the contractor provides the following:

a. FAR 31.205-46(a)(3)(ii)—A written justification for use of the higher amounts approved by an officer of the contractor's organization or designee to ensure that the authority is properly administered and controlled to prevent abuse.

b. FAR 31.205-46(a)(3)(iii)—Advance approval from the contracting officer if it becomes necessary to exercise the authority to use the higher actual expense method repetitively or on a continuing basis in a particular area.

c. FAR 31.205-46(a)(3)(iv)—Documentation to support actual costs incurred including a receipt for each expenditure of $75.00 or more.

2. FAR 31.205-46(c) requires firms to maintain and make available manifest/logs for all flights on company aircraft. As a minimum, the manifest/log must indicate:

a. Date, time, and points of departure;

b. Destination, date, and time of arrival;

c. Name of each passenger and relationship to the contractor

d. Authorization for trip; and

e. Purpose of trip.

The information required by (1) and (2) and the name of each passenger (required by (3)) are recordkeeping requirements already established by Federal Aviation Administration regulations. This information, plus the additional required information, is needed to ensure that costs of owned, chartered, or leased aircraft are properly charged against Government contracts and that directly associated costs of unallowable activities are not charged to Government contracts.

The contracting officer will use the information to ensure that the Government does not reimburse contractors for excessive travel costs. Also, the information is used by Government auditors to identify allowable and unallowable costs under Government contracts.

C. Annual Burden

Respondents/Recordkeepers: 1,854.

Total Annual Responses: 12,680.

Total Burden Hours: 6,686 (3,170 reporting hours + 3,516 recordkeeping hours).

D. Public Comment

A 60-day notice was published in the Federal Register at 90 FR 11977, on March 13, 2025. A comment was received; however, it did not change the estimate of the burden.

Comment: The proposed collection activity is a good way to ensure authorized travel and documentation for record keeping purposes in the event of an important event or scheduled activity.

Response: The respondents' input is appreciated.

Obtaining Copies: Requesters may obtain a copy of the information collection documents from the GSA Regulatory Secretariat Division by calling 202-501-4755 or emailing GSARegSec@gsa.gov. Please cite OMB Control No. 9000-0079, Travel Costs.

Janet Fry,
Director, Federal Acquisition Policy Division, Office of Governmentwide Acquisition Policy, Office of Acquisition Policy, Office of Governmentwide Policy.

[FR Doc. 2025-09464 Filed 5-23-25; 8:45 am]

BILLING CODE 6820-EP-P